OFFICE OF PERSONNEL MANAGEMENT

5 CFR Part 315

[Docket ID: OPM-2026-0034]

RIN 3206-AN79

Hiring Authority for College Graduates

AGENCY: Office of Personnel Management.

ACTION: Final rule.

SUMMARY: The Office of Personnel Management (OPM) is issuing a final rule to amend its career and career-conditional employment regulations. The revision is necessary to implement the John S. McCain National Defense Authorization Act (NDAA) for Fiscal Year (FY) 2019. This statute requires OPM to issue regulations establishing a hiring authority for college graduates into positions at specified grades in the competitive service. The intended effect of the authority is to provide additional flexibility in hiring eligible and qualified individuals.

DATES: This final rule is effective March 23, 2026.

FOR FURTHER INFORMATION CONTACT: Katika Floyd at (202) 606-0960, by fax at (202) 606-4430, TDD at (202) 418-3134, or by email at employ@opm.gov.

SUPPLEMENTARY INFORMATION: On November 5, 2021, the Office of Personnel Management (OPM) published an interim rule with request for comments in the Federal Register at 86 FR 61043 to implement the provisions of 5 U.S.C. 3115 for appointing college graduates into positions at specified grades in the competitive service.

Summary of Comments

During the 60-day comment period between November 5, 2021, and January 4, 2022, OPM received seven sets of written comments. The comments received were from one federal agency, five members of the public, and one labor union representing federal employees. At the end of the public comment period, OPM reviewed and analyzed the comments. Many of the comments received expressed general support for the rule.

OPM determined two comments were beyond the scope of the regulations. OPM is not addressing these comments:

• One comment expressed concern that, if the motivation for the rule was to improve recruitment to the federal civil service, then OPM should advocate for, and Congress should enact, legislation for improved salaries. (Comment 7) ¹

¹ A reference at the end of a comment summary provides the location of the item in the public record (i.e., the one-digit number associated with the location in the docket). Comments filed in response to the interim final rule are available at https://www.regulations.gov/comment/OPM-2026-0034-000n, where n is the comment number.

• Another comment referenced a statute (Pub. L. 114-328) that is not at issue in this rulemaking. (Comment 8)

Responses to Comments on the Regulations

Eligibility

One comment expressed concern about the two-year eligibility period and questioned the rationale behind its prescribed length. (Comment 4) The two-year period of eligibility found in the regulations is specified in the authorizing statute, 5 U.S.C. 3115(c). The same commentor also expressed the idea that the provisions in § 315.614(b) are read to mean that a college graduate had to wait two years after completing a degree before applying for positions filled under the authority. This idea is incorrect. College graduates may apply at any time between completion of degree requirements and up to two years after the degree has been completed. Additionally, agencies may choose to accept applications from individuals who anticipate completing their degree in the near future.

One comment suggested OPM should provide additional clarification on the phrase `obligated service in a uniformed service' used in § 315.614(b)(1)(iii). (Comment 8) Specifically, this commenter wanted to know if “obligated service” means “active duty,” and whether “uniformed service” includes service in the National Guard. Obligated service means an obligation or requirement to complete a period of full-time active-duty uniformed service. For example, some students who receive certain Reserve Officer Training Corps (ROTC) scholarships are required to serve full time in the armed forces for four or five years after completing a degree as a condition of receiving the scholarship. In such cases this obligated full-time service would prevent the applicant from applying for positions under the authority during the two years immediately following completion of a degree. The provision in 5 U.S.C. 3115(C)(2)(B) and § 315.614(b)(1)(iii) allows the applicant's eligibility window to begin after their service obligation ends. National Guard service may be part-time or full-time. An applicant who has a service obligation to serve part-time in the National Guard would not meet the criteria in § 315.614(b)(1)(iii) because the part-time National Guard service obligation will not prevent the applicant from applying for civilian positions in the two years immediately following the completion of a degree. An applicant who completes a service obligation to serve for a period of at least four years of full-time active duty with the National Guard or Reserves may have an eligibility period that begins after completing the service obligation. The period of eligibility may not be delayed if the period of full-time active duty is less than four years. We have modified the text of § 315.614(b)(1)(iii) to reflect that the period of eligibility may be delayed until after the completion of an intervening period of at least four years of full-time active-duty uniformed service.

Another comment asked if transcripts are needed to verify completion of a degree. (Comment 8) When determining whether an applicant is eligible for appointment under this authority, an agency must use appropriate documentation such as transcripts or diplomas to verify that an applicant has completed a bachelor's or graduate degree.

Qualifications

One commenter questioned whether the provisions for qualifications in § 315.614(c) were an agency-specific requirement or a requirement across all agencies. (Comment 4) Agencies must use the OPM-prescribed qualification standard, or an OPM-approved agency-specific qualification standard, when evaluating eligible college graduates for the position being filled. This is because positions filled under this authority are in the competitive service and the governing statute did not exempt the use of OPM-administered governmentwide qualification standards.

Numerical Limit

A Federal agency requested OPM allow recent graduate appointments in the excepted service to be included when calculating the 15 percent limitation on appointments under this authority. The agency suggested this would benefit agencies that hire through mechanisms other than delegated examining (DE) procedures. (Comment 8) OPM cannot adopt this suggestion. The types of appointments that may be used when calculating the numerical limitation are specified in the 5 U.S.C. 3115(e)(1). Under the statute, the total number of employees the head of an agency may appoint during a fiscal year using this authority may not exceed 15 percent of the number of individuals the agency head appointed under a competitive examining procedure during the previous fiscal year to a position in the competitive service classified in a professional or administrative occupational category at or below the GS-11, or equivalent, level. OPM interprets the phrase “under a competitive examining procedure” to mean OPM DE procedures pursuant to an OPM-approved delegated examining agreement (DEA), agency-specific DE procedures authorized by Congress, or any OPM-approved modifications to DE procedures such as those formally approved pursuant to a demonstration project.

Reporting

One comment encouraged OPM to monitor the effectiveness of the program and emphasized the need to capture data on the number of appointments made, demographic breakdown of the appointments, and recruitment sources. Additionally, the commenter also suggested that OPM should use any applicable and appropriate data to ensure that agencies adhere to merit system principles and do not use this rule in ways that abuse veterans' preference or disguise nepotism. (Comment 7) OPM reminds readers that 5 U.S.C. 3115(b)(1) allows agencies to make appointments without regard to any provision of sections 3309 through 3319 of title 5. This means an agency may select any eligible and qualified individual without regard to the application of veterans' preference.

OPM notes the authorizing statute required specific reporting requirements for the first 3 years after enactment of the statute (August 2018 through August 2020). Because the dates for required reporting have passed, we have removed the reporting requirement from the regulatory text of this final rulemaking. OPM continues to conduct oversight of all hiring activities including agency use of this hiring authority.

Special Provision for the Department of Defense (DOD)

OPM simplifies and updates the language in § 315.614(j) to reflect that Section 1116 of Public Law 118-31 extended the DOD direct hire authority for post-secondary students until September 30, 2030, and that subpart I does not apply to DOD during that time.

Expected Impact of This Final Rule

A. Statement of Need

OPM is issuing this rule to implement the provisions of 5 U.S.C. 3115. This statute establishes a hiring authority for college graduates into certain positions at specified grades in the competitive service. The statute and this implementing regulation will allow agencies to make appointments of college graduates directly into competitive service positions, without regard to rating, ranking and veterans' preference provisions in 5 U.S.C. 3309-3319 and 3330. The final rule also supports section I.C.1 (Early Career Recruitment) of the OPM-Executive Office of the President (EOP) joint memorandum “Merit Hiring Plan” issued May 29, 2025. This authority, when combined with agencies' strategic recruitment and Merit Hiring Plan actions pertaining to early career talent, may help agencies better recruit and fill mission critical occupations.

B. Impact

OPM expects the impact of this final rule will be a streamlined hiring flexibility for recruiting early career talent. This rule provides agencies with the necessary information to create policies and procedures for using the authority to hire college graduates as a part of an agency's overall strategy to implement strategic workforce and recruitment plans. It may also help agencies address hiring and recruiting gaps for filling early career talent positions.

C. Regulatory Alternatives

OPM's implementing regulations are required by statute and cannot be avoided. The statute prescribes eligibility requirements; types of positions that can be filled using the authority; public notice requirements; and a numerical limit for the number of appointments made. The statute also initially required reporting requirements.

The strict wording of the eligibility requirements in the statute does not allow the regulations to offer any alternatives. For this reason, the eligibility requirements in the rule match those specifically prescribed by the statute. At the request of commenters, the final rule provides clarifying information on the eligibility of veterans who are unable to apply within two years of completing a degree due to an intervening period of full-time uniformed service of at least four years.

Regarding the types of positions filled, the statute allows the authority to be used for professional and administrative positions. The statute did not include a specific definition of this term. At first, OPM considered including a specific definition with a list of specific occupations. However, we believe that OPM classification standards and other guidance on classifying positions provide ample information to allow agencies to designate the types of positions that are professional or administrative. This approach offers agencies maximum flexibility in choosing positions that can be filled using the authority.

For the public notice requirement created in the statute, OPM provided agencies the flexibility to use a variety of ways to tell the public about opportunities. While the regulations specify the information required to be included in the public notice, they also allow the agency the discretion to determine the format of the notice when the agency is not using OPM's USAJOBS platform.

The numerical limit on the use of the authority is prescribed in statute. The precise wording does not allow OPM to prescribe a limit higher than 15 percent or a waiver of the limit. Our approach in writing the implementing regulations for this issue is to provide instructions and clarifying information on how an agency must calculate the statutorily prescribed limit.

D. Costs

This final rule will affect the operations of over 80 Federal agencies—ranging from cabinet-level departments to small independent agencies. We estimate that this rule will require individuals employed by these agencies to modify policies and procedures to implement the rule and perform outreach and recruitment activities when using the authority. For the purpose of this cost analysis, OPM assumed an average salary rate of Federal employees performing this work will be the rate in 2026 for GS-14, step 5, from the Washington, DC, locality pay table ($163,104 annual locality rate and $78.15 hourly locality rate). We assume that the total dollar value of labor, which includes wages, benefits, and overhead, is equal to 200 percent of the wage rate, resulting in an assumed labor cost of $156.30 per hour.

In order to comply with the regulatory changes in this final rule, affected agencies may need to review and update their policies and procedures. We estimate that, in the first year following publication of the final rule, this will require an average of 100 hours of work by employees with an average hourly cost of $156.30. This would result in estimated costs in that first year of implementation of about $15,630 per agency, and about $1,250,400 in total Governmentwide. We do not believe this rule will substantially increase the ongoing administrative costs to agencies (including the administrative costs of administering the program and hiring and training new staff).

OPM did not receive any comments on the estimated costs in the interim rule.

E. Benefits

This regulation will support the Administration's priority to advance hiring of early career talent by allowing agencies to use strategic recruiting to hire recent college graduates to fill professional and administrative positions at the GS-11 level and below. When using the authority agencies will have additional flexibility in how college graduates are hired. Federal agencies will determine recruitment sources and processes for the solicitation of applications and will be held responsible for merit-based selections and in accordance with the joint OPM-Executive Office of the President Merit Hiring Plan guidance. This authority, when combined with agencies' strategic recruitment plans, may help agencies better recruit to fill mission critical occupations.

F. Severability

If any of the provisions of this final rule is held to be invalid or unenforceable by its terms, or as applied to any person or circumstance, it shall be severable from its respective section(s) and shall not affect the remainder thereof or the application of the provision to other persons not similarly situated or to other dissimilar circumstances, unless such holding is that the provision is invalid and unenforceable in all circumstances, in which event the provision shall be severable from the remainder of this part and shall not affect the remainder thereof. Should provisions related to one of the sections be held to be invalid we believe that the other sections should be severable and would not be impacted. Similarly, many of the operational requirements have no bearing on other provisions and are severable. For example, a holding that a hiring provision is invalid should not impact provisions related to conversion. In enforcing the provisions of this rule, OPM will comply with all applicable legal requirements. OPM did not receive any comments on severability in the proposed rule.

Regulatory Review

OPM has examined the impact of this rule as required by Executive Orders 12866 and 13563, which direct agencies to assess all costs and benefits of available regulatory alternatives and, if regulation is necessary, to select regulatory approaches that maximize net benefits (including potential economic, environmental, public, health, and safety effects, distributive impacts, and equity). A regulatory impact analysis must be prepared for rules that have an annual effect on the economy of $100 million or more or adversely affect in a material way the economy, a sector of the economy, productivity, competition, jobs, the environment, public health or safety, or State, local, or tribal governments or communities. This final rule is not a “significant regulatory action” under section 3(f) of Executive Order 12866. For the reasons discussed in the Expected Impact section, this rule is considered deregulatory under Executive Order 14192.

Regulatory Flexibility Act

The Director of the Office of Personnel Management certifies that this regulation will not have a significant impact on a substantial number of small entities because it applies only to Federal agencies and employees.

Federalism

This rule will not have substantial direct effects on the States, on the relationship between the National Government and the States, or on distribution of power and responsibilities among the various levels of government. Therefore, in accordance with Executive Order 13132, it is determined that this rule does not have sufficient federalism implications to warrant preparation of a Federalism Assessment.

Civil Justice Reform

This rule meets the applicable standard set forth in section 3(a) and (b)(2) of Executive Order 12988.

Unfunded Mandates Reform Act of 1995

Section 202 of the Unfunded Mandates Reform Act of 1995 (UMRA) requires that agencies assess anticipated costs and benefits before issuing any rule that would impose spending costs on State, local, or tribal governments in the aggregate, or on the private sector, in any 1 year of $100 million in 1995 dollars, updated annually for inflation. That threshold is currently approximately $206 million. This rulemaking will not result in the expenditure by State, local, or tribal governments, in the aggregate, or by the private sector, in excess of the threshold. Thus, no written assessment of unfunded mandates is required.

Congressional Review Act

OMB's Office of Information and Regulatory Affairs has determined this rule does not satisfy the criteria listed in 5 U.S.C. 804(2).

Paperwork Reduction Act of 1995 (44 U.S.C. 3501-3521)

Notwithstanding any other provision of law, no person is required to respond to, nor shall any person be subject to a penalty for failure to comply with, a collection of information subject to the requirements of the Paperwork Reduction Act of 1995 (44 U.S.C. 3501 et seq.) (PRA), unless that collection of information displays a currently valid Office of Management and Budget (OMB) Control Number. This rule involves the following OMB-approved collections of information subject to the PRA: USAJOBS 3.0 (OMB Control Number 3206-0219).

OPM believes any additional burden associated with this final rule falls within the existing estimates currently associated with this control number. OPM does not anticipate that the implementation of this final rule will increase the cost burden to members of the public. Additional information regarding this collection of information—including all background materials—can be found at https://www.reginfo.gov/public/do/PRAMain by using the search function to enter either the title of the collection or the OMB Control Number.

List of Subjects in 5 CFR Part 315

Government employees.

Signing Authority

The Director of OPM, Scott Kupor, reviewed and approved this document and has authorized the undersigned to electronically sign and submit this document to the Office of the Federal Register for publication.

U.S. Office of Personnel Management.
Jerson Matias,
Federal Register Liaison.

Accordingly, OPM amends part 315 of title 5, Code of Federal Regulations, as follows:

PART 315—CAREER AND CAREER-CONDITIONAL EMPLOYMENT

1. The authority citation for part 315 continues to read as follows:

Authority: 5 U.S.C. 1302, 3301, and 3302. E.O. 10577, 19 FR 7521, 3 CFR, 1954-1958 Comp., p. 218; E.O. 14284, 90 FR 17729.

Secs. 315.601 and 315.609 also issued under 22 U.S.C. 3651 and 3652.

Secs. 315.602 and 315.604 also issued under 5 U.S.C. 1104.

Sec. 315.603 also issued under 5 U.S.C. 8151.

Sec. 315.605 also issued under 22 U.S.C. 2051, 42 U.S.C. 2991.

Sec. 315.606 also issued under E.O. 11219, 30 FR 6381, 3 CFR, 1964-1965 Comp., p. 303.

Sec. 315.607 also issued under 22 U.S.C. 2560.

Sec. 315.608 also issued under E.O. 12721, 55 FR 31349, 3 CFR, 1990 Comp., p. 293.

Sec. 315.610 also issued under 5 U.S.C. 3304(c).

Sec. 315.611 also issued under 5 U.S.C. 3304(f).

Sec. 315.612 also issued under 5 U.S.C. 3330d.

Sec. 315.613 also issued under 5 U.S.C. 9602.

Sec. 315.710 also issued under E.O. 12596, 52 FR 17537, 3 CFR, 1987 Comp., p. 264.

Subpart I also issued under 5 U.S.C. 3321, E.O. 12107, 44 FR 1055, 3 CFR, 1978 Comp., p. 264.

Subpart F—[Amended]

2. Amend § 315.614 by:

a. Revising paragraphs (b) and (c);

b. In the first sentence of paragraph (e) introductory text, removing “, and thus” and adding in its place “; and”;

c. Revising paragraphs (h) through (j); and

d. Removing paragraph (k).

The revisions read as follows:

§ 315.614 Hiring authority for college graduates.

* * * * *

(b) Eligibility. An eligible college graduate is defined as an individual who:

(1) Has received a baccalaureate or graduate degree from an institution of higher education as defined in 20 U.S.C. 1001(a) and has applied for the position being filled under the authority in this section (using the date on which the application is received by the hiring agency as the date of submission), either:

(i) Not later than two years after the date on which the individual received their degree described in paragraph (b)(1) introductory text of this section; or

(ii) Not later than two years after the date on which the individual was released or discharged from an intervening period of obligated service of not less than four years of full-time active-duty uniformed service; and

(2) Meets the qualification standards prescribed or approved by OPM for the position to which the individual is being appointed.

(c) Qualifications. Agencies must evaluate eligible college graduates using the OPM-prescribed qualification standard, or an OPM-approved agency-specific qualification standard, for the position being filled.

* * * * *

(h) Tenure upon appointment. A person appointed under paragraph (a) of this section becomes a career-conditional employee unless the appointee has already satisfied the requirements for career tenure or is excepted from it pursuant to § 315.201(c).

(i) Numerical limit on the number of appointments. (1) Except as provided in paragraph (i)(2) of this section, the total number of individuals that an agency may appoint under this authority during a fiscal year (FY) may not exceed 15 percent of the number of individuals that the agency appointed during the previous FY to a position in the competitive service classified in a professional or administrative occupational category, at the GS-11 level or below, or equivalent, under a competitive examining procedure. An appointing agency may not count appointments made using direct hire authorities, non-competitive authorities, excepted service authorities, or selections under merit promotion authorities, when establishing the limit for a given fiscal year. In calculating this limitation, agencies must round up or down to the nearest whole number, if necessary, to eliminate a decimal place. Values ending in “.5” or more may be rounded up to the nearest whole number in determining an agency's cap limitation. Values ending in less than “.5” should be rounded down to the nearest whole number in determining an agency's cap limitation.

(2) During any given fiscal year, OPM may establish a lower limitation on the number of individuals that may be appointed under paragraph (i)(1) of this section based on any factor OPM considers appropriate. OPM shall notify agencies via the OPM website and other venues (such as the Chief Human Capital Officer's Council) of any changes to the numerical limitation, applicable governmentwide. Changes to the numerical limit for an individual agency will be communicated directly to the agency.

(j) Special provisions for Department of Defense. This section does not apply to the Department of Defense during the period that section 1106 of Public Law 114-328, as amended by section 1116 of Public Law 118-31 (see 10 U.S.C. note prec. 1580), or that any applicable successor statute, is effective.

[FR Doc. 2026-03354 Filed 2-19-26; 8:45 am]

BILLING CODE 6325-39-P